DEPARTMENT OF THE TREASURY

Agency Information Collection Activities; Submission for OMB Review; Comment Request; Multiple Internal Revenue Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before July 29, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

1. Title: Form 4422—Application For Certificate Discharging Property Subject To Estate Tax Lien and Form 15056—Escrow Agreement.

OMB Control Number: 1545-0328.

Type of Review: Revision of a currently approved collection.

Description: Form 4422 is completed by either an executor, administrator, or other interested party for requesting release of any/all property of an estate from the Estate Tax Lien. Form 15056 is a contractual agreement between three parties (the IRS, Taxpayer and Escrow Agent) to hold funds from property sales subject to the federal estate tax lien. The only information it requires is a quarterly statement reflecting the balance in the escrow account as proof that the funds are being held in accordance with the agreement.

Affected Public: Business or other for-profit organizations, Not for Profit institutions, State and Local governments, and Individuals or Households.

Estimated Number of Respondents: 2,500.

Frequency of Response: On occasion.

Estimated Total Number of Annual Responses: 2,500.

Estimated Time per Response: 30 minutes.

Estimated Total Annual Burden Hours: 1,250.

2. Title: Requirements for Investments to Qualify under Section 936(d)(4) as Investments in Qualified Caribbean Basin Countries.

OMB Control Number: 1545-1138.

Type of Review: Extension without change of a currently approved collection.

Description: The collection of information is required by the Internal Revenue Service to verify that an investment qualifies under IRC section 936(d)(4). The respondents will be possession corporations, certain financial institutions located in Puerto Rico, and borrowers of funds covered by this regulation.

Form: None.

Affected Public: Businesses and other for-profit organizations.

Estimated Number of Respondents: 50.

Frequency of Response: On occasion.

Estimated Total Number of Annual Responses: 50.

Estimated Time per Response: 30 hours.

Estimated Total Annual Burden Hours: 1,500 hours.

3. Title: Tax Information Authorization.

OMB Control Number: 1545-1165.

Type of Review: Extension without change of a currently approved collection.

Description: Form 8821 is used to appoint someone to receive or inspect certain tax information. Data is used identify appointees and to ensure that confidential information is not divulged to unauthorized persons. Form 8821-A is an authorization signed by a taxpayer for the IRS to disclose returns and return information to local law enforcement in the event of a possible identity theft.

Form: Form 8821 and Form 8821-A.

Affected Public: Individuals or Households, Business or other for-profit organizations, not-for-profit institutions.

Estimated Number of Respondents: 673,172.

Frequency of Response: On occasion.

Estimated Total Number of Annual Responses: 706,667.

Estimated Time per Response: 1.05 hours and 9 minutes.

Estimated Total Annual Burden Hours: 706,667 hours.

4. Title: Capitalization of Interest.

OMB Control Number: 1545-1265.

Type of Review: Extension without change of a currently approved collection.

Description: Certain foreign students and other nonresident visitors are exempt from FICA tax for services performed as specified in the Immigration and Naturalization Act. Applicants for refund of this FICA tax withheld by their employer must complete Form 8316 to verify that they are entitled to a refund of the FICA, that the employer has not paid back any part of the tax withheld and that the taxpayer has attempted to secure a refund from his/her employer.

Form: Form 8821.

Affected Public: Individuals or Households, and Business or other for-profit organizations.

Estimated Number of Respondents: 500,050.

Frequency of Response: On occasion.

Estimated Total Number of Annual Responses: 500,050.

Estimated Time per Response: 14 minutes, 2 hours.

Estimated Total Annual Burden Hours: 116,767 hours.

5. Title: Failure to File Gain Recognition Agreements or Satisfy Other Reporting Obligations.

OMB Control Number: 1545-1487.

Type of Review: Extension without change of a currently approved collection.

Description: Sections 367(e)(1) and 367(e)(2) provide for gain recognition on certain transfers to foreign persons under sections 355 and 332. Section 6038B(a) requires U.S. persons transferring property to foreign persons in exchanges described in sections 332 and 355 to furnish information regarding such transfers.

Form: None.

Affected Public: Business or other for-profit organizations.

Estimated Number of Respondents: 414.

Frequency of Response: On occasion.

Estimated Total Number of Annual Responses: 414.

Estimated Time per Response: 3 to 20 hours.

Estimated Total Annual Burden Hours: 2,471 hours.

6. Title: Tip Reporting Alternative Commitment (TRAC) Agreement for Use in the Cosmetology and Barber Industry.

OMB Control Number: 1545-1529.

Type of Review: Extension without change of a currently approved collection.

Description: Information is required by the Internal Revenue Service in its compliance efforts to assist employers and their employees in understanding and complying with section 6053(a), which requires employees to report all their tips monthly to their employers.

Form: None.

Affected Public: Business or other for-profit organizations.

Estimated Number of Respondents: 4,600.

Frequency of Response: On occasion.

Estimated Total Number of Annual Responses: 4,600.

Estimated Time per Response: 9 hours.

Estimated Total Annual Burden Hours: 43,073 hours.

7. Title: Student Loan Interest Statement (Form 1098-E).

OMB Control Number: 1545-1576.

Type of Review: Extension without change of a currently approved collection.

Description: Section 6050S(b)(2) of the Internal Revenue Code requires persons (financial institutions, governmental units, etc.) to report $600 or more of interest paid on student loans to the IRS and the students. Form 1098-E is used for this purpose.

Form: None.

Affected Public: Business or other for-profit organizations, not-for-profit institutions and State, Local or Tribal governments.

Estimated Number of Respondents: 22,148,234.

Frequency of Response: On occasion.

Estimated Total Number of Annual Responses: 22,148,234.

Estimated Time per Response: 7 minutes.

Estimated Total Annual Burden Hours: 2,657,789 hours.

8. Title: Revenue Procedure 2004-19—Probable or Prospective Reserves Safe Harbor.

OMB Control Number: 1545-1861.

Type of Review: Extension without change of a currently approved collection.

Description: Revenue Procedure 2004-19 requires a taxpayer to file an election statement with the Service if the taxpayer wants to use the safe harbor to estimate the taxpayers' oil and gas properties' probable or prospective reserves for purposes of computing cost depletion under § 611 of the Internal Revenue Code.

Form: None.

Affected Public: Business or other for-profit organizations.

Estimated Number of Respondents: 100.

Frequency of Response: On occasion.

Estimated Total Number of Annual Responses: 100.

Estimated Time per Response: 30 minutes.

Estimated Total Annual Burden Hours: 50 hours.

9. Title: Information Regarding Request for Refund of Social Security Tax Erroneously Withheld on Wages Received by a Nonresident Alien on an F, J, or M Type Visa.

OMB Control Number: 1545-1862.

Type of Review: Extension without change of a currently approved collection.

Description: Certain foreign students and other nonresident visitors are exempt from FICA tax for services performed as specified in the Immigration and Naturalization Act. Applicants for refund of this FICA tax withheld by their employer must complete Form 8316 to verify that they are entitled to a refund of the FICA, that the employer has not paid back any part of the tax withheld and that the taxpayer has attempted to secure a refund from his/her employer.

Form: None.

Affected Public: Individuals or Households.

Estimated Number of Respondents: 22,500.

Frequency of Response: On occasion.

Estimated Total Number of Annual Responses: 22,500.

Estimated Time per Response: 15 minutes.

Estimated Total Annual Burden Hours: 5,625 hours.

10. Title: Election to Treat a Qualified Revocable Trust as Part of an Estate.

OMB Control Number: 1545-1881.

Type of Review: Extension without change of a currently approved collection.

Description: Form 8855 is used to make a section 645 election that allows a qualified revocable trust to be treated and taxed (for income tax purposes) as part of its related estate during the election period.

Form: Form 8855.

Affected Public: Business or other for-profit organizations.

Estimated Number of Respondents: 5,000.

Frequency of Response: On occasion.

Estimated Total Number of Annual Responses: 5,000.

Estimated Time per Response: 5 hours 38 minutes.

Estimated Total Annual Burden Hours: 28,200 hours.

11. Title: Intake/Interview & Quality Review Sheets.

OMB Control Number: 1545-1964.

Type of Review: Revision of a currently approved collection.

Description: 13614-C, 13614-C (SP), 13614(AR), 13614(CN-S), 13614(CN-T), 13614(HT), 13614(KR), 13614(PL), 13614(PT), 13614(TL), and, 13614(VN) contain a standardized list of required intake questions to guide volunteers in asking taxpayers basic questions about themselves. The intake sheet is an effective tool ensuring that critical taxpayer information is obtained and applied during the interview process.

Affected Public: Business or other for-profit organizations, not-for-profit organizations, and Federal government.

Estimated Number of Respondents: 3,750,000.

Frequency of Response: On occasion.

Estimated Total Number of Annual Responses: 3,750,000.

Estimated Time per Response: 10 minutes.

Estimated Total Annual Burden Hours: 625,136 hours.

12. Title: Form 8453-R—Electronic Filing Declaration for Form 8963.

OMB Control Number: 1545-2253.

Type of Review: Extension without change of a currently approved collection.

Description: The purpose of the form is to authenticate the electronic filing of Form 8963, Report of Health Insurance Provider Information.

Affected Public: Business or other for-profit organizations, not-for-profit institutions.

Estimated Number of Respondents: 2,550.

Frequency of Response: On occasion.

Estimated Total Number of Annual Responses: 2,550.

Estimated Time per Response: 1 hour 37 minutes.

Estimated Total Annual Burden Hours: 4,131 hours.

13. Title: Collection of Qualitative Feedback on Agency Service Delivery.

OMB Control Number: 1545-2256.

Type of Review: Extension without change of a currently approved collection.

Description: This collection of information is necessary to enable the Agency to garner customer and stakeholder feedback in an efficient, timely manner, in accordance with our commitment to improving service delivery. The information collected from our customers and stakeholders will help ensure that users have an effective, efficient, and satisfying experience with the Agency's programs.

Affected Public: Individuals and households, and Business or other for-profit organizations.

Estimated Number of Respondents: 24,636.

Frequency of Response: On occasion.

Estimated Total Number of Annual Responses: 24,636.

Estimated Time per Response: 15 minutes to 1.05 hours.

Estimated Total Annual Burden Hours: 10,000 hours.

Authority: 44 U.S.C. 3501 et seq.

Dated: June 24, 2020.
Spencer W. Clark,
Treasury PRA Clearance Officer.

[FR Doc. 2020-13963 Filed 6-26-20; 8:45 am]

BILLING CODE 4830-01-P